DEPARTMENT OF AGRICULTURE

Cooperative State Research, Education, and Extension Service Final Revised Guidelines for State Plans of Work for the Agricultural Research and Extension Formula Funds

AGENCY: Cooperative State Research, Education, and Extension Service, USDA.

ACTION: Final notice.

SUMMARY: The Cooperative State Research, Education, and Extension Service (CSREES) is implementing the revisions to the Guidelines for State Plans of Work for the Agricultural Research and Extension Formula Funds [64 FR 19242-19248]. These guidelines prescribe the procedures to be followed by the eligible institutions receiving Federal agricultural research and extension formula funds under the Hatch Act of 1887, as amended (7 U.S.C. 361a et seq.); sections 3(b)(1) and (c) of the Smith-Lever Act of 1914, as amended (7 U.S.C. 343 (b)(1) and (c)); and sections 1444 and 1445 of the National Agricultural Research, Extension, and Teaching Policy Act of 1977, as amended (7 U.S.C. 3221 and 3222). The recipients of these funds are commonly referred to as the 1862 land-grant institutions and 1890 land-grant institutions, including Tuskegee University and West Virginia State University. CSREES also is revising and reinstating a previously approved information collection (OMB No. 0524-0036) associated with these Guidelines.

FOR FURTHER INFORMATION CONTACT: Mr. Bart Hewitt; Program Analyst, Planning and Accountability, Office of the Administrator; CSREES-USDA; Washington, DC 20250; at 202-720-5623, 202-720-7714 (fax) or via electronic mail at bhewitt@csrees.usda.gov.

SUPPLEMENTARY INFORMATION: CSREES published a notice and request for comment on the Proposed Revised Guidelines for State Plans of Work for the Agricultural Research and Extension Formula Funds in the Federal Register on June 7, 2005 (70 FR 33055-33062).

Public Comments and Guideline Changes in Response

In the Notice of the Proposed Guidelines, CSREES invited comments on the Proposed Guidelines as well as comments on (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of collection of information on those who are to respond, including the use of appropriate automated, electronic, mechanical, or other technological collections techniques or other forms of information technology.

CSREES received 22 sets of comments.

Burden

Comment: Half of the commentors (11) stated that the number of burden hours required is underestimated. One commentor stated that the number of burden hours required is overestimated. And one commentor stated that the number of burden hours appeared to be reasonable estimates. The other nine commentors had no comment on burden hours required.

CSREES Response: CSREES fully expected that half of the commentors would indicate that the number of burden hours was underestimated. CSREES contacted nine states for a burden survey based on the proposed guidelines. Seven States responded. We asked these states to complete the survey giving the estimated number of hours it will take to complete each portion of the Plan of Work (POW) and Annual Report, above and beyond the number of hours it would normally take to plan and report for their own State's purposes. The number represented in the guidelines is based on the median of the results of this survey, and based on a per institutional response. Thus, half of the responses are at or below this figure and half of the responses are at or above this figure. Also, since this number is based on each individual institutional response, it must be understood that a combined research institution and extension institution cooperating on a POW is considered to be two responses and is, thus, expected to be double this published figure since it represents two institutional responses. It also is significant to note that none of the states surveyed which were below this median estimate commented that the burden hours were underestimated.

Comment: One commentor stated that quantifying inputs would be overly burdensome.

CSREES Response: While quantifying inputs does put some burden on the States, it is necessary to report to Congress and the Office of Management and Budget what impacts are generated by what dollars. To reduce the burden on the states, CSREES will only ask for the types of funds used, and the estimated number of Full-Time Equivalents (FTEs) in the initial POW. Actual numbers on these will be asked in the Annual Report.

Hatch Act Funding

Comment: One commentor felt that there is no need for the Hatch Act anymore and that the budget should be cut. Moreover, this commentor stated that all research should be funded by agribusiness.

CSREES Response: CSREES appreciates and accepts all comments. However, this comment is beyond the scope of these Guidelines.

Due Date

Comment: Three commentors noted that the period covered in the Guidelines appears incorrect. The Guidelines state October 1, 2007, through September 30, 2011.

CSREES Response: CSREES agrees. The period should read October 1, 2006, through September 30, 2011. This is corrected in the final Guidelines.

Comment: Nine commentors state that the April 1, 2006, deadline for submitting the POW will be difficult to meet. One commentor suggests that having the Annual Report and POW submitted 60 days apart from each other would be less burdensome.

CSREES Response: CSREES needs to have 90 days to review and approve the POWs before funds can be released for the first quarter of fiscal year (FY) 2007. CSREES agrees to move the initial due date for the FY 2007-2011 POW to June 1, 2006. However, if any State institution does not submit their Plan by June 1, 2006, CSREES cannot guarantee prompt release of the first quarter funds for FY 2007 on October 1, 2006, since it can only do so with an approved POW. The due dates for the subsequent Annual Report of Accomplishments and the Annual Plan of Work Update will remain April 1 each year.

Elements of the Planned Programs Section

Comment: Two commentors suggest that while the Program Logic Model is commonly used by many State Cooperative Extension Services, it is not a proven model or shown to be an effective tool for research. They suggest it is a flawed assumption that research and extension programs can use the same model.

CSREES Response: CSREES disagrees. Although it may be a relatively new concept for State Agricultural Experiment Stations (SAESs), many Federal research and development agencies and many private research and development organizations have shown the Program Logic Model to be an effective tool and are touting its use.

Comment: Another commentor is concerned that while the general flow of inputs-activities-outputs-outcomes can be used to describe any process, including research, one must be careful to articulate what is appropriate and acceptable for each of these categories in the model, particularly outputs and outcomes.

CSREES Response: CSREES agrees. CSREES conducted a series of regional sessions on Evaluation Training for the POW in October and November 2005, to augment the electronic versions of training materials that have been released and will be released. CSREES wants the 1862 and 1890 land-grant institutions to be clear on what is acceptable in the POW and subsequent Annual Reports of Accomplishments and Results.

Comment: Another commentor states that the Logic Model lends itself effectively to Extension Programs, while Knowledge Areas appear to be more applicable to research activities.

CSREES Response: CSREES agrees in part. CSREES also feels that an integration by using both methods will give richness to the planning and accountability process in both research and extension.

Comment: One commentor questioned the value of including assumptions in the POW. It only adds to reporting burden that will be useless for any accountability benefits.

CSREES Response: CSREES disagrees. Assumptions are key to the Logic Model. They are the beliefs we have about the program and the people involved; the way we think the program will work; and the underlying beliefs in how it will work. These are validated with research and experience. Assumptions underlie and influence the program decisions we make. Assumptions are principles, beliefs, ideas about, the problem or situation, the resources and staff, the way the program will operate, what the program expects to achieve, the knowledge base, the external and internal environment, and the participants and how they learn, their behavior, motivations, etc.

Comment: Twelve commentors stated that there was a lack of information about the Knowledge Area Classification (KAC) codes to judge them.

CSREES Response: CSREES has now published the KAC manual. For the Knowledge Areas, the research community will quickly notice that a vast majority of the codes are really no different than that of the Research Problem Areas (RPAs) that have been used for years in the Current Research Information System (CRIS). CSREES has augmented the KAC manual with some additional codes to encompass Extension and Higher Education, and also the language in the manual has been revised so Extension and Higher Education can find and use them for their programs. The KAC manual can be found at http://www.csrees.usda.gov/business/reporting/planrept/plansofwork.html.

Comment: One commentor requested that the Knowledge Areas not be changed once they have been implemented. Changes create extra work and less continuity in the information collected.

CSREES Response: CSREES intends to use the KACs to classify all the work performed by CSREES and its Partners to include Research, Extension, and Higher Education. The KAC manual is, however, designed to be a dynamic document that can be revised and augmented over time as need arises for new classification codes or to retire outdated or unused codes.

Comment: Two commentors strongly support the use of the Logic Model to develop plans and evaluation reports for both extension and research.

CSREES Response: CSREES appreciates all comments both positive and negative.

Comment: One commentor questions the use of the word “may” in section II.B.5 of the Guidelines that describe inputs as it relates to reporting on dollars other than Formula Funds. They feel the word “may” indicates that the inclusion of data is optional. Another commentor suggests that CSREES has no oversight authority in requesting this data and that it should be optional. Yet another commentor suggests that requesting states to quantify other funds is overly burdensome and that a compromise might be to simply describe the source/nature of other funds that will be expended to address critical issues. Moreover, two commentors stated a need for clarity on the funds to be reported on in the POW.

CSREES Response: To alleviate confusion, CSREES will change the word “may” to “shall” to be consistent with the wording in the legislation. The Agricultural Research, Extension, and Education Reform Act of 1998 (AREERA) legislation uses the word “shall” when it refers to a requirement. Thus, the wording in this section is being changed to read, “AREERA requires that this component shall not only include the amount of Federal agricultural research and/or extension formula funds allocated to this planned program, but also the manner in which funds, other than formula funds, will be expended to address the critical issues being targeted by this planned program.” This is in keeping with Section 202 (for Smith-Lever and Hatch), and Section 225 (for 1890 Research and Extension funds) of AREERA. These sections state that “Each Plan of Work for a State * * * shall contain descriptions of the following: The manner in which research and extension, including research and extension activities funded other than through formula funds, will cooperate to address the critical issues in the State, including the activities to be carried out separately, the activities to be carried out sequentially, and the activities to be carried out jointly.” For the purpose of this 5-year POW, only those programs that use Federal Formula Funds and its accompanying matching funds need be reported. Thus, in the POW, CSREES will only ask whether or not Formula Funds are being used in a State-defined program and whether or not funds other than Formula Funds are being used. CSREES will not ask for the amount that is expected to be used in the POW, but will ask for this data in subsequent Annual Reports against the POW. However, CSREES will require the number of FTE positions participating in the planned programs identified in the 5-Year POW. In addition, a recurring comment made by State land-grant partners was that in formulating the POW requirements, CSREES needs to consider how much is leveraged with the Federal formula dollars.

Comment: Two commentors want a clarification of the definition of the word “Activities” as it relates to the Logic Model.

CSREES Response: CSREES has attempted to clarify the definition of the word “Activities” in the definition section of these guidelines. CSREES will amend the definition to include the following: “Activities are what a program does with its inputs, the services it provides to fulfill its mission. They include the research processes, workshops, services, conferences, community surveys, facilitation, in-home counseling, etc.”

Comment: Two commentors suggested that CSREES change the name of “community and resource development” to just “community development” in the definition of “Agricultural issues.”

CSREES Response: CSREES has changed the wording in this definition to broaden it by including both “community development” and “resource development.”

Comment: Two commentors suggested that CSREES change the phrase “social issues such as youth development, etc.” to “youth development, strengthening families (parenting, communication, financial management), and related topics” in the definition of “Agricultural issues.”

CSREES Response: CSREES agrees and has changed the wording to reflect this.

Comment: Four commentors have suggested that CSREES needs to clarify the definition of outcome and output indicators to reflect that of the Program Logic Model. One commentor asked, “What is the difference between outcomes and outcome indicators?” Another commentor asks if the word “indicators” is relevant to the Program Logic Model.

CSREES Response: CSREES believes the word “indicators” is very relevant to the Program Logic Model, because indicators are the measures of program success that are derived from the goals set in the Program Logic Model. Indicators are the evidence or information that represent the phenomenon of interest that has been explained in the Program Logic Model. Indicators answer the evaluation questions derived from the Program Logic Model, and define the data that will need to be collected, analyzed, and reported.

For example, a Program Logic Model may recognize a national problem, such as the need for nutrition education to help combat the nationwide epidemic of obesity, and lay out the planned course of action to deliver activities, such as courses for certain target groups, that will result in planned results, such as increases in knowledge, changes in attitudes, and changes in behavior, that we know from experience and health literature will lead to lower weight. This example also illustrates the difference between output and outcome indicators. Output indicators measure the activities that comprise the process of the program, such as counting the number of courses provided and the number of participants, while outcome indicators measure the results of those activities, such as changes in nutrition knowledge measured by a test, changes in attitudes, and changes in behavior. Some evaluation studies also collect physical outcome data, such as measuring calories consumed each day, changes in weight, etc.

Using the word “outcomes” in the Program Logic Model refers to the planned conceptual goal for the cluster of output activities to which it is linked, while “outcome indicator” refers to the selected measure of progress toward that goal. However, in common usage, people often may use “outcomes” as shorthand for the measure.

Comment: Three commentors have suggested that CSREES change the wording from “identification of national problem,” to “identification of state problem” in the definition of Program Logic Model. Moreover, one commentor points out that there is conflicting language in the Guidelines which implies the POW must address only national priorities.

CSREES Response: CSREES agrees in part and has changed the wording in this definition to provide greater clarity in that the POW should address both state and national priorities. National issues are usually best addressed at the state level by the States affected. Collectively, state and national priorities are cohesive and solutions are mutually beneficial.

Comment: Two commentors stated that it would be helpful if CSREES would give some indication of the scale of “programs” that is expected for state programs. In addition, the commentor requested brief examples.

CSREES Response: The purpose of letting the States define their own program unit, or unit of work, is to allow greater flexibility in how States plan and report. CSREES does not want to dictate the programs around which States do their planning. However, CSREES has published its Strategic Plan on its Web site at http://www.csrees.usda.gov/about/offices/pdfs/strat_plan_04_09.pdf, and a list of eleven National Emphasis Areas that CSREES uses for its own planning. This list is published on the CSREES Web site at http://www.csrees.usda.gov/nea/emphasis_area.html.

Comment: Two commentors stated that it appears that the POW system will request specific measures of program accomplishment. In practice, these measures may not be uniform for all projects across the entire Nation, and CSREES will ask for the number of persons adopting a technology of practice, dollars saved or generated, etc. The commentor proposes that the POW and Annual Report serve as a broad Federal umbrella, under which the States are allowed to use measures of evaluation deemed appropriate by each State. Moreover, two commentors stated CSREES needs to list the standard performance measures for outputs.

CSREES Response: CSREES agrees. It was never the intention of the POW to craft many nation-wide standard measures for outputs and outcomes. In fact, there are only three standard “output” measures for the FY 2007-2011 POW. Thus far, there are no standard “outcome” measures put forth by CSREES for the FY 2007-2011 POW, but we will continue to work with national task forces to develop some over time. The standard output measures for extension are number of direct and indirect contacts, and extension education methods for extension. The only standard output measure for research in the POW is number of patents. In the Annual Report, we will ask what those patents are. The other output measures and all outcome measures are left to the discretion of the institution to craft as they deem appropriate for their programs. More detail on the standard performance measures are published in the training presentation modules for the POW on the CSREES Web site at http://www.csrees.usda.gov/business/reporting/planrept/plansofwork.html.

Comment: One commentor suggested that there is redundancy in asking for information under situation and priorities sections and in the Multistate Extension and Integrated Research and Extension activities sections, and the stakeholder input process sections.

CSREES Response: CSREES has revised the situation and priorities section to clarify what is needed and to reduce redundancy of these sections.

Comment: One commentor suggest that it will be difficult to estimate indirect and direct contacts during the first year of the POW given that they have not counted these in this manner previously, but it sees value in this information as it reaches many clientele by both indirect and direct means. Staff will feel better about being able to count all their contacts as some have felt unsettled at being told to count only direct contacts in the past. Their numbers for both may be more accurate as a result.

CSREES Response: CSREES agrees that this may be difficult for some states that have not counted these in the past. Also, we understand that, for the POW, that these will be estimates. However, in the first Annual Report due on April 1, 2008, CSREES feels institutions will be able to count the actual contacts for the first fiscal year. The Plan numbers are milestones to strive for, while the real output measures in the Annual Report are what we typically will use for determining success.

Multistate Extension and Integrated Research and Extension

Comment: One commentor states that for Smith-Lever Multistate Extension, the formal documentation discussed to provide evidence appears to be a new requirement for the POW. The requirement of formal written agreements will be a distraction to faculty-to-faculty multistate activities and will require considerable time to develop the agreements. Most agreements are non-formal. Another commentor agrees, but goes further to state that e-mail communications can be viewed as primary evidence that a multistate relationship exists and that this requirement is creating a bureaucracy and hours spent in preparing reports without any benefit to the stakeholder. If faculty members are told they must have this agreement signed prior to initiating a multi-state effort, all regional programming will come to a halt.

CSREES Response: This requirement was in the original POW Guidelines published on July 1, 1999. The requirement for formal written agreements, letters of memorandum, etc. has been deleted. However, it is expected that these activities meet the criteria and definition of multistate extension as stated in the Guidelines. CSREES expects that, with the elimination of the requirement for formal written agreements or letters of memorandum, institutions will be better able to meet their target percentages. In fact, CSREES expects that some institutions (i.e., those with low target percentages) may be better able to achieve higher target percentages, closer to 25 percent, with the elimination of the need for formal written agreements in order to provide evidence of multistate extension activities.

Comment: One commentor feels we should strike the statement that “these programs must be reported consistently across the units of an institution as well as with the 5-Year POW of the cooperating State(s) or State institutions” in both the Multistate Extension and Integrated Research and Extension sections to be consistent with the Administrative Guidance on our CSREES Web site.

CSREES Response: CSREES agrees and will clarify this statement in both sections to be consistent with the Administrative Guidance on both sections.

Comment: One commentor states that the guidance continues to ignore what is meant by “at least equal to the lesser of 25 percent or twice the * * *” in reference to which funds are being addressed for Multistate Extension and Integrated Research and Extension programs. This should be interpreted that States report on the value of 25 percent of Federal formula dollars regardless of the source of those dollars, whether Federal formula dollars or state matching dollars. If this means only 25 percent of Federal formula dollars this is a concern. To limit reporting to only Federal dollar funded positions is difficult as the Federal dollars have fallen so far behind in keeping up with the operating costs and many States are not hiring new employees on Federal dollars. Clarity on this point is needed.

CSREES Response: The requirements of AREERA are very clear in that they do refer only to the Federal formula funds: “Of the Federal formula funds that are paid to each State for fiscal year 2000 and each subsequent fiscal year under subsections (b) and (c), the State shall expend for the fiscal year for multistate activities a percentage that is at least equal to the lesser of (i) 25 percent; or (ii) twice the percentage for the State determined under subparagraph A.” CSREES realizes the difficulty for some States to meet these requirements with Federal formula funds and does understand that many times these multistate extension and integrated activities are being supported with other sources of funding (e.g., State funds). However, the statutory requirement applies to the Federal formula funds only.

Comment: One commentor inquired about whether States would have the opportunity to establish new target percentages for Multistate Extension Activities and Integrated Research and Extension Activities.

CSREES Response: Yes, States will have the opportunity to and in some cases, may be required to establish new target percentages for Multistate Extension Activities and Integrated Research and Extension Activities. A revised Administrative Guidance for Multistate Extension Activities and Integrated Research and Extension Activities is currently being drafted.

Merit Review

Comment: One commentor needs a clarification on “program goals” in the Merit Review definition. The commentor questioned: “Whose Program Goals? Are these to be State goals or Federal goals?” This statement can be interpreted to be state goals.

CSREES Response: CSREES will clarify this statement to say “Merit review means an evaluation whereby the quality and relevance to state program goals are assessed.” This refers to the merit review of state programs.

Stakeholder Input

Comment: One commentor feels the template approach to the sections on stakeholder input and merit review processes is too constraining. Such disaggregation trivializes the integrated approaches they have established and brings all programs to a lowest common denominator of description, regardless of quality of the processes involved. In contrast, the open narrative format of the current plan allowed fair descriptions of such processes and permitted qualitative differentiation.

CSREES Response: As CSREES was designing the new POW, it specifically received many positive responses to the way it was handling these two sections of the Plan. CSREES feels it is alleviating limitations by incorporating into the software both checkboxes and text boxes to allow for the flexibility to further explain the important institutional strategies and processes. CSREES is, however, forcing conciseness and brevity in its narrative sections as requested by institutions receiving funds and mandates by Federal laws and regulations.

General

Comment: One commentor suggests that the following language seems contradictory. The section on Schedule states that “Five-Year Plans of Work accepted by CSREES will remain in effect for five years and will be publicly available in a CSREES database.” Earlier language indicates that the Annual Update to the 5-Year POW will add an additional year to the continuous 5-Year POW. The commentor asks whether the approval of the Annual Update also extends the POW another year.

CSREES Response: CSREES agrees that this seems contradictory and it has changed the language in the section on “Schedule” to clarify the meaning. The intention is that an approval of the Annual Update also does extend the POW for another year. But, this update, in effect, is a “new” 5-Year POW that is effective for the “new” 5-year period.

Comment: One commentor stated that for CSREES to require future 5-Year POWs is redundant since the States are required to provide annual updates to the plans, adding an additional year each time. Another commentor stated that this point needs to be clarified.

CSREES Response: CSREES agrees in part. CSREES will strike the last sentence of the paragraph and clarify this statement. However, technically CSREES is still requiring future 5-Year POWs since each year the update is a new 5-Year Plan. For example, the update due by April 1, 2007, will be the FY 2008-2012 5-Year POW, even though an additional year is being added to the previous FY 2007-2011 5-Year POW. Moreover, CSREES will allow data to be revised, if needed, for any future year in the Plan, not just the added year.

Comment: Three commentors believe that the core of the POW (the planned programs) for the SAESs is already in the CRIS database, and the Hatch projects in each State's Program of Research should be accepted de facto as the research planned programs sections for the POW.

CSREES Response: CSREES agrees in part. Although much information is in CRIS, it is primarily a reporting mechanism, and is mostly retrospective, and does not sufficiently make use of the planning standard, the Program Logic Model, which is in use by many Federal research and development agencies. The Program Logic Model is key to the development of the POW. CSREES understands the frustration of redundancy and is working toward eliminating duplication via the “One Solution” initiative. The “One Solution” initiative is exploring ways to meld the information contained in CRIS and the POW to eliminate or reduce this duplication of effort. The FY 2007-2011 POW is part of Phase 1 of the “One Solution” initiative, and future phases, which include the FY 2007 Annual Report (which is not due until April 1, 2008), will address this issue fully.

Comment: One commentor feels CSREES should precede the first sentence in the paragraph with the phrase “For extension * * *” when describing education and outreach programs that are pertinent to the critical agricultural issues identified in the “Statement of Issue.”

CSREES Response: CSREES agrees and has changed the language to reflect this.

Comment: One commentor wants CSREES to clarify the definition and consistently apply the meaning of “planned program,” which is crucial to both State and Federal partners. The commentor believes the proposed guidelines are ambiguous.

CSREES Response: CSREES has purposely given the States ample discretion and flexibility to interpret their own state-defined program units or units of work and does not want to impose a standard program unit that will not fit all circumstances.

Comment: One commentor wants CSREES to clarify the definition of “Under-served” and “Under-represented.” One commentor stated that they conduct 10-15 civil rights reviews on an annual basis and have never seen these definitions. Both phrases seem to be addressing the same concept and yet, after several readings, it is still unclear to the commentor what is meant.

CSREES Response: CSREES agrees that both phrases seem to be addressing the same concept, but also feels the current definitions are clear. Under-served are those whose “needs” have not been fully addressed in the past; whereas, under-represented are those who may not have participated fully in programs. The populations for each state that fit these definitions may differ from state to state and within different areas of a single state.

Comment: One commentor states that the failure of the proposed guidelines to integrate or coordinate with Smith-Lever Act section 3(d) programs and Civil Rights reporting calls to question the validity of the “One Solution” approach. Another commentor states that CSREES needs to eliminate duplicative effort in reporting impact and accounting for Federal formula funding received by organizations, and that reporting into the CSREES Science and Education Impact database is another example of duplicative work.

CSREES Response: CSREES has begun the process to coordinate with the Smith-Lever Act section 3(d) programs. However, reporting under the “One Solution” is taking place in several phases over several years. The POW is only part of Phase 1 of the “One Solution” initiative. The Annual Report of Accomplishments for the Formula funded programs covered by AREERA are part of a future phase of the “One Solution” that also will integrate many other programs, including Smith-Lever Act section 3(d) funded programs, and projects reporting to reduce redundancy in reporting.

Comment: One commentor states that the web-entry system should come with a support plan. Also, the new system should be functional in offline use since they cannot do all the data entry in one sitting and must be able to save between entries and drafts. If this must be done online, then it must have a “save as we go” feature. Also there should be no limitations on characters and symbols that can be uploaded when cutting and pasting from word processing documents.

CSREES Response: The web-entry system will be supported by the Information Systems and Technology Management unit of CSREES. The new system will not be functional offline, but it will have a “save as you go” feature to allow for multiple editing until submitted in final by the Director or Administrator of the institution. There will, however, be some special character limitations due to software constraints.

Comment: The Connecticut Agricultural Experiment Station in New Haven states that they are not a land-grant institution, but receive Hatch Act funds, thus the sentence which begins with “Responders will be the 57 land-grant institutions and the 18 1890 land-grant institutions* * *” excludes them.

CSREES Response: CSREES will clarify this statement to include the Connecticut Agricultural Experiment Station in New Haven and the Geneva Agricultural Experiment Station in New York.

Comment: One commentor encourages CSREES to provide a training session, one in the East and one in the West, using computer-based simulation to train each institution's lead 5-Year POW planner. There also should be an online help desk available for the software.

CSREES Response: CSREES held four regional Evaluation Training for the POW sessions in October and November 2005. Information on these training sessions can be found on the CSREES AREERA Plan of Work Web page at http://www.csrees.usda.gov/business/reporting/planrept/plansofwork.html. There also will be web-based training materials available for the software. The POW software itself will contain help screens for each section of the POW and there will be a help desk available for both software and content.

Comment: One commentor states that data related to external factors may only be able to be documented in a qualitative form and inquires if the “One Solution” will have the capacity to capture such data.

CSREES Response: The POW software will make use of checkboxes with an “other” choice with a text field as well as a text box to capture the qualitative nature of this item.

Comment: One commentor states that a clear declaration must be made by CSREES that states how input, output, and outcome data are to be used. Is the data base to enhance planning and scientific peer-review as articulated in AREERA or is it also intended to link dollar inputs with specific outputs/outcomes, both within the state and across regional and multi-state efforts? Another commentor inquires how linking impact to dollars will be shared with legislators and other resource allocators.

CSREES Response: CSREES Plans to use the input, output, and outcome data to enhance planning, and also to link dollar inputs with Knowledge Areas for use in assessing CSREES-funded programs in the portfolio review process for budget purposes. We also will link outputs and outcomes to the Knowledge Areas for use in the portfolio review process.

Comment: One commentor discourages the tracking or documentation of multi-county programming work. The time invested would be very cumbersome and distract from the many successes already occurring. Another commentor states that to require or even encourage multi-county cooperation violates the sovereignty of the county government and the local stakeholders to fund what they perceive as a priority and oversteps the bounds of the Federal Government.

CSREES Response: CSREES must uphold the mandates of AREERA as written into the law. The AREERA legislation states that for Smith-Lever Act formula funds and the 1890 Extension formula funds that “[e]ach extension Plan of Work for a State * * * shall contain description of the following:” “(5) The education and outreach programs already underway to convey available research results that are pertinent to a critical agricultural issue, including efforts to encourage multicounty cooperation in the dissemination of research results.” CSREES has no intention of tracking multi-county programming work in the POW. However, as stated above, AREERA requires that States document efforts to encourage multi-county cooperation in the dissemination of research information. This can be discussed briefly in the Plan Overview text and/or the Stakeholder Input section of the Plan.

Comment: Eight commentors stated a need for more information on the concept of a rolling 5-year POW and the required Annual Update to the POW, and how this differs from an update being submitted when formula funds change by more than 10 percent in one year or by 20 percent or more cumulatively during the 5-year period.

CSREES Response: The POW does become a rolling 5-Year Plan. Each April, the just-completed-and-reported-on year drops off and is updated by adding the next fifth year. Also, annual updates will allow for amending any and all future years of the plan already entered. CSREES has attempted to add clarity in these guidelines and has published more thorough training presentation modules on the CSREES Web site at http://www.csrees.usda.gov/business/reporting/planrept/plansofwork.html. Since an update is submitted each year, CSREES will drop the reference to needing an update when baseline formula funds change by more than 10 percent in one year or by 20 percent or more cumulatively during the 5-year period, but note that annual updates will allow for amending any and all future years of the plan already entered.

Comment: CSREES needs to improve its search capabilities to search for impacts by Congressional district.

CSREES Response: While this is beyond the scope of the POW Guidelines, CSREES is striving to improve on the way we search and find impacts through the “One Solution” initiative which will incorporate data entry systems with the Research, Education, and Economics Information System (REEIS). This system has been designed to serve all with an interest in research, education and extension efforts performed or financially supported by USDA. The ultimate objective of the system is to enable users to measure the impact and effectiveness of research, extension and education programs.

Paperwork Reduction Act

In accordance with the Office of Management and Budget (OMB) regulations (5 CFR part 1320) that implement the Paperwork Reduction Act of 1995 (44 U.S.C. chapter 35), the information collection and recordkeeping requirements imposed by the implementation of these guidelines will be submitted to OMB as a revision of Information Collection No. 0524-0036, Reporting Requirements for State Plans of Work for Agricultural Research and Extension Formula Funds. These requirements will not become effective prior to OMB approval. The eligible institutions will be notified upon this approval.

Background and Purpose

The Cooperative State Research, Education, and Extension Service (CSREES) is implementing the following revised Guidelines for State Plans of Work for the Agricultural Research and Extension Formula Funds which implement the plan-of-work reporting requirements enacted in the Agricultural Research, Extension, and Education Reform Act of 1998 (AREERA), Public Law 105-185.

These guidelines incorporate some of the recommendations from the USDA Office of Inspector General (OIG) Audit Report No. 13001-3-Te, CSREES Implementation of the Agricultural Research, Extension, and Education Reform Act of 1998 (AREERA), which was published on August 16, 2004. In an earlier Federal Register notice [69 FR 6244-6248], CSREES amended the Guidelines to the State Plans of Work to allow for the submission of an interim FY 2005-2006 Plan of Work (POW) in order for CSREES to consider the audit recommendations as well as develop a viable electronic option for compliance with the Government Paperwork Elimination Act (GPEA). This notice implements this electronic option through a web-based data entry system which will reduce the reporting burden to the institutions while providing more accountability over agricultural research and extension formula funds.

Pursuant to the Plan of Work requirements enacted in the Agricultural Research, Extension, and Education Reform Act of 1998, the Cooperative State Research, Education, and Extension Service hereby revises the Guidelines for State Plans of Work for Agricultural Research and Extension Formula Funds as follows:

Guidelines for State Plans of Work for Agricultural Research and Extension Formula Funds

Table of Contents

I. Preface and Authority

II. Submission of the 5-Year Plan of Work

A. General

1. Planning Option

2. Period Covered

3. Projected Resources

4. Submission and Due Date

5. Definitions

B. Components of the 5-Year Plan of Work

1. Planned Programs

a. Format

b. Program Logic Model

c. Program Descriptions

2. Stakeholder Input Process

3. Program Review Process

a. Merit Review

b. Scientific Peer Review

c. Reporting Requirement

4. Multistate Research and Extension Activities

a. Hatch Multistate Research

b. Smith-Lever Multistate Extension

c. Reporting Requirement

5. Integrated Research and Extension Activities

C. Five Year Plan of Work Evaluation by CSREES

1. Schedule

2. Review Criteria

3. Evaluation of Multistate and Integrated Research and Extension Activities

III. Annual Update of the 5-Year Plan of Work

A. Applicability

B. Reporting Requirement

IV. Annual Report of Accomplishments and Results

A. Reporting Requirement

B. Format

I. Preface and Authority

Sections 202 and 225 of the Agricultural Research, Extension, and Education Reform Act of 1998 (AREERA), Public Law 105-185, enacted amendments requiring all States and 1890 institutions receiving formula funds authorized under the Hatch Act of 1887, as amended (7 U.S.C. 361a et seq.), the Smith-Lever Act, as amended (7 U.S.C. 341 et seq.), and sections 1444 and 1445 of the National Agricultural Research, Extension, and Teaching Policy Act of 1977 (NARETPA), as amended (7 U.S.C. 3221 and 3222), to prepare and submit to the Cooperative State Research, Education, and Extension Service (CSREES) a Plan of Work for the use of those funds.

While the requirement for the Hatch Act and Smith-Lever Act funds applies to the States, CSREES assumes that in most cases the function will be performed by the 1862 land-grant institution in the States. The only “eligible institutions” to receive formula funding under sections 1444 and 1445 of NARETPA are the 1890 land-grant institutions and Tuskegee University and West Virginia State University. Therefore, these guidelines refer throughout to “institutions” to include both the 1862 and 1890 land-grant institutions, including Tuskegee University and West Virginia State University.

Further, these guidelines require a POW that covers both research and extension. Although the District of Columbia receives extension funds under the District of Columbia Postsecondary Education Reorganization Act, Public Law 93-471, as opposed to the Smith-Lever Act, CSREES has determined that it should be subject to the POW requirements imposed under these guidelines except where expressly excluded.

All the requirements of AREERA with regard to agricultural research and extension formula funds were considered and were incorporated in these POW guidelines including descriptions of the following: (1) The critical short-term, intermediate, and long-term agricultural issues in the State and the current and planned research and extension programs and projects targeted to address the issues; (2) the process established to consult with stakeholders regarding the identification of critical agricultural issues in the State and the development of research and extension projects and programs targeted to address the issues; (3) the efforts made to identify and collaborate with other colleges and universities that have a unique capacity to address the identified agricultural issues in the State and the extent of current and emerging efforts (including regional and multistate efforts) to work with those other institutions; (4) the manner in which research and extension, including research and extension activities funded other than through formula funds, will cooperate to address the critical issues in the State, including the activities to be carried out separately, sequentially, or jointly; and (5) For extension, the education and outreach programs already underway to convey available research results that are pertinent to a critical agricultural issue, including efforts to encourage multicounty cooperation in the dissemination of research information.

These guidelines also take into consideration the requirement in section 102(c) of AREERA for the 1862, 1890, and 1994 land-grant institutions receiving agricultural research, extension, and education formula funds to establish a process for receiving stakeholder input on the uses of such funds. This stakeholder input requirement, as it applies to research and extension at 1862 and 1890 land-grant institutions, has been incorporated as part of the POW process.

The requirement of section 103(e) of AREERA also is addressed in these POW guidelines. This section requires that the 1862, 1890, and 1994 land-grant institutions establish a merit review process, prior to October 1, 1999, in order to obtain agricultural research, extension, and education funds. These were established by all institutions in the FY 2000-2004 5-Year POW. For purposes of these guidelines applicable to formula funds, a description of the merit review process must be restated, and if applicable, the merit review process must be re-established for extension programs funded under sections 3(b)(1) and (c) of the Smith-Lever Act and under section 1444 of NARETPA, and for research programs funded under sections 3(c)(1) and (2) of the Hatch Act (commonly referred to as Hatch Regular Formula Funds) and under section 1445 of NARETPA. Section 104 of AREERA amended the Hatch Act of 1887 also to stipulate that a scientific peer review process (that also would satisfy the requirements of a merit review process under section 103(e)) be established for research programs funded under section 3(c)(3) of the Hatch Act (commonly referred to as Hatch Multistate Research Funds). As previously stated, a description of these program review processes must be restated, and if applicable, these review processes must be re-established in order for the institutions to obtain agricultural research and extension formula funds. Consequently, a description of the merit review and scientific peer review process has been included as a requirement in the submission of the 5-Year POW.

These POW guidelines also require reporting on the multistate and integrated research and extension programs. Section 104 of AREERA amended the Hatch Act of 1887 to redesignate the Hatch regional research funds as the Hatch Multistate Research Fund, specifying that these funds be used for cooperative research employing multidisciplinary approaches in which a State agricultural experiment station (SAES), working with another SAES, the Agricultural Research Service, or a college or university, cooperates to solve the problems that concern more than one State. Section 105 of AREERA amended the Smith-Lever Act to require that each institution receiving extension formula funds under sections 3(b) and (c) of the Smith-Lever Act expend for multistate activities in FY 2000 and thereafter a percentage that is at least equal to the lesser of 25 percent or twice the percentage of funds expended by the institution for multistate activities in FY 1997. Section 204 of AREERA amended both the Hatch and Smith-Lever Acts to require that each institution receiving agricultural research and extension formula funds under the Hatch Act and sections 3(b) and (c) of the Smith-Lever Act expend for integrated research and extension activities in FY 2000 and thereafter a percentage that is at least equal to the lesser of 25 percent or twice the percentage of funds expended by the institution for integrated research and extension activities in FY 1997. These sections also required that the institutions include in the POW a description of the manner in which they will meet these multistate and integrated requirements. These were included as part of the FY 2000-2004 5-Year POW.

These applicable percentages apply to the Federal agricultural research and extension formula funds only. Federal formula funds that are used by the institution for a fiscal year for integrated activities also may be counted to satisfy the multistate extension activities requirement.

The multistate and integrated research and extension requirements do not apply to formula funds received by American Samoa, Guam, Micronesia, Northern Marianas, Puerto Rico, and the Virgin Islands. Since the Smith-Lever Act is not directly applicable, the multistate extension and integrated requirements do not apply to extension funds received by the District of Columbia, except to the extent it voluntarily complies.

The amendments made by sections 105 and 204 of AREERA also provide that the Secretary of Agriculture may reduce the minimum percentage required to be expended by the institution for multistate and integrated activities in the case of hardship, infeasibility, or other similar circumstance beyond the control of the institution. In April 2000, CSREES issued separate guidance on the establishment of the FY 1997 baseline percentages for multistate extension activities and integrated research and extension activities, on requests for reduction in the required minimum percentage, and on reporting requirements. The Administrative Guidance for Multistate Extension Activities and Integrated Research and Extension Activities provides guidance on the establishment of target percentages for multistate extension activities and integrated research and extension activities as well as associated reporting requirements and waiver criteria and procedures.

Also included in these guidelines are instructions on how to report on the annual accomplishments and results of the planned programs contained in the 5-Year POW, information on the evaluation of accomplishments and results, and information on when and how to update the 5-Year POW if necessary.

II. Submission of the 5-Year Plan of Work

A. General

1. Planning Option

This document provides guidance for preparing the POW with preservation of institutional autonomy and programmatic flexibility within the Federal-State Partnership. The POW is a 5-year prospective plan that covers the initial period of FY 2007 through FY 2011, with the submission of annual updates to the 5-Year POW to add an additional year to the plan each year. The 5-Year POWs may be prepared for an institution's individual functions (i.e., research or extension activities), for an individual institution (including the planning of research and extension activities), or for state-wide activities (i.e., a 5-year research and/or extension POW for all the eligible institutions in a State). Each 5-Year POW must reflect the content of the program(s) funded by Federal agricultural research and extension formula funds and the required matching funds. This 5-Year POW must describe how the program(s) address critical short-term, intermediate, and long-term agricultural issues in a State.

2. Period Covered

The initial 5-Year POW should cover the period from October 1, 2006, through September 30, 2011.

3. Projected Resources

The resources that are allocated for various planned programs in the 5-Year POW, in terms of full-time equivalents (FTEs), should be included and projected over the next five years. The baseline for the institution's or State's plan (for five years) should be the Federal agricultural research and extension formula funds for FY 2005 (and used for all five years) and the appropriate matching requirement for each fiscal year.

4. Submission and Due Date

The initial FY 2007-2011 5-Year POW must be submitted by June 1, 2006, to the Planning and Accountability Unit, Office of the Administrator, of the Cooperative State Research, Education, and Extension Service (CSREES); U.S. Department of Agriculture. These will be submitted electronically via a web-based data input system for the POW and Annual Report of Accomplishments and Results provided by CSREES. The web address for submissions will be provided by CSREES when the software goes on-line.

5. Definitions

For the purpose of implementing the Guidelines for State Plans of Work for Agricultural Research and Extension Formula Funds, the following definitions are applicable:

Activities means either research projects or extension programs. In the logic model, activities are what a program does with its inputs, the services it provides to fulfill its mission. They include the research processes, workshops, services, conferences, community surveys, facilitation, in-home counseling, etc.

Agricultural issues means all issues for which research and extension are involved, including, but not exclusive of, agriculture, natural resources, nutrition, community development, resource development, and youth development, strengthening families (parenting, communication, financial management), and related topics.

Formula funds for the purposes of the Plan of Work guidelines means funding provided by formula to 1862 land-grant institutions under section 3 of the Hatch Act of 1887, as amended (7 U.S.C. 361a) and sections 3(b)(1) and (c) of the Smith-Lever Act, as amended (7 U.S.C. 343(b)(1) and (c)) and to the 1890 land-grant institutions under sections 1444 and 1445 of the National Agricultural Research, Extension, and Teaching Policy Act of 1977, as amended (7 U.S.C. 3221 and 3222).

Formula funds for the purposes of stakeholder input means the funding by formula to the 1862 land-grant institutions and 1890 land-grant institutions covered by these Plan of Work guidelines as well as the formula funds provided under the McIntire-Stennis Cooperative Forestry Research Program (16 U.S.C. 582, et seq.), the Animal Health and Disease Research Program (7 U.S.C. 3195), and the education payments made to the 1994 land-grant institutions under section 534(a) of Public Law 103-382 (7 U.S.C. 301 note).

Integrated or joint activities means jointly planned, funded, and interwoven activities between research and extension to solve problems. This includes the generation of knowledge and the transfer of information and technology.

Merit review means an evaluation whereby the quality and relevance to the State program goals are assessed.

Multi-institutional means two or more institutions within the same or different States or territories that will collaborate in the planning and implementation of programs.

Multistate means collaborative efforts that reflect the programs of institutions located in at least two or more States or territories.

Multi-disciplinary means efforts that represent research, education, and/or extension programs in which principal investigators or other collaborators from two or more disciplines or fields of specialization work together to accomplish specified objectives.

Outcome indicator means an assessment of the results of a program activity compared to its intended purpose. The outcome indicator measures the success of the outcome. It is the evidence or information that represents the phenomenon that is being measured. They define the data that will be collected and evaluated.

Output indicator means a tabulation, calculation, or recording of activity of effort expressed in quantitative or qualitative manner which measures the products or services produced by the planned program. The output indicator measures the success of the output. It is the evidence or information that represents the phenomenon being measured. They define the data that will be collected and evaluated.

Planned programs means collections of research projects or activities and/or extension programs or activities. States and State institutions define their own program unit or unit of work.

Program Logic Model means the conceptual tool for planning and evaluation which displays the sequence of actions that describe what the science-based program is and will do—how investments link to results. Included in this depiction of the program action are six core components:

1. Identification of the state and/or national problem, need, or situation that needs to be addressed by the program: The conceptual model will delineate the steps that are planned, based on past science and best theory, to achieve outcomes that will best solve the identified state and national problems and meet the identified needs.

2. Assumptions: The beliefs we have about the program, the people involved, and the context and the way we think the program will work. These science-based assumptions are based on past evaluation science findings regarding the effects and functioning of the program or similar programs, program theory, stakeholder input, etc.

3. External Factors: The environment in which the program exists includes a variety of external factors that interact with and influence the program action. Evaluation plans for the program should account for these factors, which are alternative explanations for the outcomes of the program other than the program itself. Strong causal conclusions about the efficacy of the program must eliminate these environmental factors as viable explanations for the observed outcomes of the program.

4. Inputs: Resources, contributions, and investments that are provided for the program. This includes Federal, state, and local spending, private donations, volunteer time, etc.

5. Outputs: Activities, services, events, and products that are intended to lead to the program's outcomes in solving national problems by the causal chain of events depicted in the logic model. These activities and products are posited to reach the people who are targeted as participants or the audience or beneficiaries of the program. Activities are what a program does with its inputs, the services it provides to fulfill its mission. They include the research processes, workshops, services, conferences, community surveys, facilitation, in-home counseling, etc.

6. Outcomes: Planned results or changes for individuals, groups, communities, organizations, communities, or systems. These include short-term, medium-term, and long-term outcomes in the theorized chain of causal events that will lead to the planned solution of the identified national problems or meet national needs. These can be viewed as the public's return on its investment (i.e., the value-added to society in the benefits it reaps from the program).

Program review means either a merit review or a scientific peer review.

Scientific peer review means an evaluation performed by experts with scientific knowledge and technical skills to conduct the proposed work whereby the technical quality and relevance to program goals are assessed.

Seek stakeholder input means an open, fair, and accessible process by which individuals, groups, and organizations may have a voice, and one that treats all with dignity and respect.

Stakeholder is any person who has the opportunity to use or conduct agricultural research, extension, and education activities in the State.

Under-served means individuals, groups, and/or organizations whose needs have not been fully addressed in past programs.

Under-represented means individuals, groups, and/or organizations especially those who may not have participated fully including, but not limited to, women, racial and ethnic minorities, persons with disabilities, limited resource clients, and small farm owners and operators.

B. Components of the 5-Year Plan of Work

1. Planned Programs

Beginning with the FY 2007-2011 5-Year POW the Planned Programs will no longer be arranged around the five National Goals established for the FY 2000-2004 5-Year POW, nor will they be identified by the previously established Key Themes. Planned programs will be centered around State identified planned program areas and CSREES newly established Knowledge Areas (KAs).

a. Format. As mentioned under the Planning Options section, an institution or State may opt to submit independent plans for the various units (e.g., 1862 research) or an integrated plan which includes all units in the institution or State.

b. Program Logic Model. Regardless of the option chosen, the 5-Year POW should be reported in the appropriate format, each of which identifies planned programs that the State decides upon. Each Planned Program chosen by the State will be formatted around the Program Logic Model in this web-based POW data entry system. This is a nationally recognized method and used extensively by planning and evaluation specialists to display the sequence of actions that describe what the program is and will do and how investments link to results. It is commonly used by many State Cooperative Extension Services.

c. Program Descriptions. Program descriptions presented for a planned program will be formatted around the Program Logic Model and include the following data entry screens:

1. Name of Program. The State designated title for a State Research and/or Extension Program. This is in contrast to a project title. A research program may consist of several research projects. Examples of Programs may include, but not exclusive of: 4-H and Youth, Pest Management, Animal Genomics, Natural Resources, Economics and Commerce, etc.

2. Classification of Program. Up to ten different classification codes and their respective percentage of effort may be used to classify the KAs covered in each State program.

3. Situation and Priorities. This component should discuss the critical agricultural issues within the State that were identified and being targeted by this planned program. This component may also reference the stakeholder input which identified the critical agricultural issue in the State and the need for the targeted research and/or extension program. The situation is the foundation for logic model development. The problem or issue that the program is to address sits within a setting or situation. It is a complex of socio-political, environmental, and economic conditions. The situation statement should discuss (a) the problem/issue; (b) why this is a problem or issue; (c) for whom (individual, household, group, community, society in general) the problem or issue exists; who has a stake in the problem; (d) what is known about the problem/issue/people that are involved; and (e) on what research, experience this is based upon (research base).

From the situation comes priority setting. Once the situation and problem are fully analyzed, priorities must be set to ensure that the most important issues are addressed. Several factors should influence your determination of focus: Your mission, values, resources, expertise, experience, history, what you know about the situation, and what others are doing in relation to the problem. Priorities lead to the identification of desired outcomes.

4. Expected Duration of the Program. A data check box will be provided to ask States to express the program duration as short-term (one year or less), intermediate (one to five years), or long-term (over five years).

5. Inputs. The resources, contributions, investments that go into the program. The web-based software will include the estimated FTEs and the type of funds used to support the activity or planned program (i.e., type of Federal funds, State matching, etc.). AREERA requires reporting not only on the Federal agricultural research and/or extension formula funds and matching funds allocated to this planned program, but also the manner in which funds, other than formula funds, will be expended to address the critical issues being targeted by this planned program.

6. Outputs. The activities, services, events and products that reach people who participate or who are targeted. These outputs are intended to lead to specific outcomes. The web-based data entry system will include standard performance measures such as number of persons targeted (direct and indirect contacts), number and type of patents awarded, as well as allow for state-generated target performance measures.

7. Outcomes. The direct results, benefits, or changes for individuals, groups, communities, organizations, or systems. Examples include changes in knowledge, skill development, changes in behavior, capacities or decision-making, policy development. Outcomes can be short-term, medium-term, or longer-term achievements. Short-term outcomes refer to change in learning. Medium-term outcomes refer to change in action. Long-term outcomes refer to change in conditions. Outcomes may be positive, negative, neutral, intended, or unintended. Impact in this model refers to the ultimate consequence or effects of the program (i.e. increased economic security, improved air quality, etc.). In this model, impact is synonymous with the long-term outcome of your goal. It is at the farthest right on the logic model graphic. Impact refers to the ultimate, longer-term changes in social, economic, civic, or environmental conditions. In common usage impact and outcomes are often used interchangeably.

The web-based software will include standard performance measures such as number of persons adopting a technology or practice, dollars saved or generated, as well as allow for state-generated target performance measures.

8. Assumptions. The beliefs we have about the program, the people involved, and the context and the way we think the program will work. The web-based data entry system will require a short discussion on the assumptions that underlie and influence the program decisions made. Assumptions are principles, beliefs, ideas about the problem or situation, the resources and staff, the way the program will operate, what the program expects to achieve, the knowledge base, the external environment, the internal environment, the participants and how they learn, their behavior, motivations, etc.

9. External Factors. The environment in which the program exists includes a variety of external factors that interact with and influence the program action. External factors include the cultural milieu, the climate, economic structure, housing patterns, demographic patterns, political environment, background and experiences of program participants, media influence, changing policies and priorities. These external factors may have a major influence on the achievement of outcomes. They may affect a variety of things including program implementation, participants and recipients, and the speed and degree to which change affects staffing patterns and resources available. A program is affected by and affects these external factors.

2. Stakeholder Input Process

Section 102(c) of AREERA requires the 1862 land-grant institutions, 1890 land-grant institutions, and 1994 land-grant institutions receiving agricultural research, extension, and education formula funds from CSREES to establish a process for stakeholder input on the uses of such funds. CSREES has promulgated separately regulations to implement this stakeholder input requirement. This was published on February 8, 2000 in the Federal Register (7 CFR Part 3418).

As a component of the 5-Year POW, each institution must report on the: (a) Actions taken to seek stakeholder input that encourages their participation; (b) A brief statement of the process used by the recipient institution to identify individuals and groups who are stakeholders and to collect input from them; and (c) A statement of how collected input was considered and actions taken to seek stakeholder input that encourages their participation. This report will be required annually and may be submitted with the Annual Report of Accomplishments and Results. This component will satisfy the reporting requirements imposed by the separately promulgated regulations on stakeholder input.

In the web-based software, CSREES will provide check lists with the commonly reported actions taken to seek stakeholder input, as well as a narrative text box to capture the process that is used to identify stakeholders and collect input from them and how the input was considered. This allows for additional information in each section in the form of a brief narrative if needed.

3. Program Review Process

a. Merit Review. Effective October 1, 1999, each 1862 land-grant institution and 1890 land-grant institution must have established a process for merit review in order to obtain agricultural research or extension formula funds. This was established in the FY 2000-2004 5-Year POW by all institutions.

b. Scientific Peer Review. A scientific peer review is required for all research funded under the Hatch Act of 1887, including Multistate Research Fund. For such research, this scientific peer review will satisfy the merit review requirement specified above.

c. Reporting Requirement. As a component of the 5-Year POW, each institution depending on the type of program review required will provide a description of the merit review process or scientific peer review process established at their institution. This description should include the process used in the selection of reviewers with expertise relevant to the effort and appropriate scientific and technical standards. In the web-based software, CSREES will provide a check list with the commonly reported types of reviews, as well as a narrative text box to allow for additional information in the form of a brief narrative if needed.

4. Multistate Research and Extension Activities

a. Hatch Multistate Research. Effective October 1, 1998, the Hatch Multistate Research Fund replaced the Hatch Regional Research Program. The Hatch Multistate Research Fund must be used for research employing multidisciplinary approaches to solve research problems that concern more than one State. For such research, SAESs must partner with another SAES, the Agricultural Research Service, or another college or university.

b. Smith-Lever Multistate Extension. Effective October 1, 1999, the cooperative extension programs at the 1862 land-grant institutions must have expended two times their FY 1997 baseline percentage or 25 percent, whichever is less, of their formula funds provided under sections 3(b)(1) and (c) of the Smith-Lever Act for activities in which two or more State extension services cooperate to solve problems that concern more than one State. The Administrative Guidance for Multistate Extension Activities and Integrated Research and Extension Activities provides guidance on the establishment of target percentages, criteria and procedures for waiver requests, and reporting requirements. These requirements only apply to the cooperative extension services (CESs) at the 1862 land-grant institutions in the 50 States. Institutions, through the web-based reporting system, must describe all multistate extension activities for which the institution will be reporting expenditures to satisfy their multistate extension requirement under AREERA section 105. Institutions do not have to have formal written agreements of letters of memorandum to support a qualified multistate extension activity for the purposes of AREERA section 105. The requirements of this section apply only to the Federal funds.

c. Reporting Requirements. The 5-Year POW should include a description of the Multistate Research, where applicable, and Multistate Extension programs as specified above. These descriptions should be reported in the Planned Programs section of the 5-Year POW. A table will be provided by the web-based software for reporting planned expenditures (i.e., the amount of Federal formula funds) each year on these activities. This table will only apply to the CESs at the 1862 land-grant institutions in the 50 States. In addition, this item is the first of two plan-of-work reporting requirements that require a dollar amount to be identified in the Plan.

5. Integrated Research and Extension Activities

a. Effective October 1, 1999, two times the FY 1997 baseline percentage or 25 percent, whichever is less, of all funds provided under section 3 of the Hatch Act and under section 3(b)(1) and (c) of the Smith-Lever Act must have been spent on activities that integrate cooperative research and extension. Integration may occur within the State or between units within two or more States. The Administrative Guidance for Multistate Extension Activities and Integrated Research and Extension Activities provided guidance for the establishment of target percentages, criteria and procedures for waiver requests, and associated reporting requirements. This requirement only applies to the 1862 land-grant institutions in the 50 States and the state agricultural experiment stations in Connecticut and New York. Institutions, through the web-based reporting system, must describe all the integrated research and extension activities for which the institutions will be reporting expenditures to satisfy their integrated requirements under AREERA section 204. Federal formula funds used by a State for integrated activities may also be counted to satisfy the multistate extension activity requirements. The requirements of this section apply only to the Federal funds.

b. Reporting Requirements. The 5-Year POW should include a description of the Integrated Research and Extension programs as specified above. These descriptions should be reported in the Planned Programs section of the 5-Year POW. A table will be provided by the web-based software for reporting planned expenditures (i.e., the amount of Federal formula funds) each year for these activities. This table will only apply to the 1862 land-grant institutions and the SAESs in Connecticut and New York. In addition, this is the second of two plan-of-work reporting requirements that requires a dollar amount to be identified in the Plan.

C. Five-Year Plan of Work Evaluation by CSREES

1. Schedule

CSREES will evaluate all 5-Year POWs. The 5-Year POWs will either be accepted by CSREES without change or returned to the institution, with clear and detailed recommendations for its modification. The submitting institution(s) will be notified by CSREES of its determination within 90 days (i.e., review to be completed in 60 days; communications to the institutions allowing a 30-day response) of receipt of the document. Adherence to the POW schedule by the recipient institution is critical to assuring the timely distribution of funds by CSREES. Five-Year POWs accepted by CSREES will be publicly available in a CSREES database.

2. Review Criteria

CSREES will evaluate the 5-Year POWs to determine if they address agricultural issues of critical importance to the State; identify the alignment and realignment of programs to address those critical issues; identify the involvement of stakeholders in the planning process; give attention to under-served and under-represented populations; indicate the level of Federal formula funds in proportion to all other funds (i.e., in terms of FTEs) at the Director or Administrator level; provide evidence of multistate, multi-institutional, and multidisciplinary and integrated activities; and identify the expected outcomes and impacts from the 5-Year POW.

3. Evaluation of Multistate and Integrated Research and Extension Activities

CSREES will be using the Annual Reports of Accomplishments and Results to evaluate the success of multistate, multi-institutional, and multidisciplinary activities and joint research and extension activities, in addressing critical agricultural issues identified in the 5-Year POWs. CSREES will be using the following evaluation criteria: (1) Did the planned program address the critical issues of strategic importance, including those identified by the stakeholders? (2) Did the planned program address the needs of under-served and under-represented populations of the State(s)? (3) Did the planned program describe the expected outcomes and impacts? and (4) Did the planned program result in improved program effectiveness and/or efficiency?

III. Annual Update of the 5-Year Plan of Work

A. Applicability

An annual update to the 5-Year POW is required to add an additional year to the Plan. It also will allow for updating all future years' data in the updated Plan. The updated Plan will form a “new” 5-Year POW that is effective in the “new” 5-year period.

B. Reporting Requirement

The Annual Update to the 5-Year POW should be submitted on April 1 prior to the beginning of the next POW fiscal year (which begins on October 1 of each year). The first Update is due on April 1, 2007, for the five year period starting with FY 2008 which begins October 1, 2007.

IV. Annual Report of Accomplishments and Results

A. Reporting Requirement

The 5-Year POW for a reporting unit, institution, or State should form the basis for annually reporting its accomplishments and results. This report will be due on or before April 1 each year with the first report being due on April 1, 2008, for FY 2007. This report should be submitted using the same web-based data entry system used for the submission of the 5-Year POW. The web-based data entry system will mirror and include data entered by the institution in the 5-Year POW. However, institutions will be required to provide some fiscal data in the Annual Report.

B. Format

This annual report should include the relevant information related to each component of the program of the 5-Year POW. Accomplishments and results reporting should involve two parts. First, institutions should submit an annual set of impact statements linked to sources of funding. Strict attention to just the preceding year is not expected in all situations. Some impact statements may need to cover ten or more years of activity. Focus should be given to the benefits received by targeted end-users. Second, institutions should submit annual results statements based on the indicators of the outputs and outcomes for the activities undertaken the preceding year in the Program Logic Model for each program. These should be identified as short-term, intermediate, or long-term critical issues in the 5-Year POW. Attention should be given to highlighting multistate, multi-institutional, and multidisciplinary and integrated activities, as appropriate to the 5-Year POW.

Done at Washington, DC, this 18th day of January, 2006.
Colien Hefferan,
Administrator, Cooperative State Research, Education, and Extension Service.

[FR Doc. 06-680 Filed 1-24-06; 8:45 am]

BILLING CODE 3410-22-P